DEPARTMENT OF THE INTERIOR

National Park Service

Environmental Impact Statement for the Exit Glacier Area Plan, Kenai Fjords National Park, Alaska

AGENCY: National Park Service, Interior.

ACTION: Notice of intent to prepare an environmental impact statement for the Exit Glacier Area Plan, Kenai Fjords National Park, AK.

SUMMARY: The National Park Service (NPS) is preparing an environmental impact statement (EIS) for the Exit Glacier Area Plan at Kenai Fjords National Park, under the provisions of the 1969 National Environmental Policy Act. The Exit Glacier frontcountry area is the only area of the park accessible by road and is a popular Alaska tourist destination. Visitation has outpaced projected trends year-round, resulting in changes to the visitor experience and impacts on resources.

The Exit Glacier area is accessible via a nine-mile road from the Seward Highway, just outside the town of Seward, Alaska. The road enters the park in the last mile and terminates in a parking lot. Exit Glacier flows from the 300-square-mile Harding Icefield, and visitors can approach the towering glacier face on a one-half mile footpath.

The General Management Plan for Kenai Fjords National Park completed in 1984 established broad goals for management of the Exit Glacier area. Specific area developments were approved in the 1996 Frontcountry Development Concept Plan (DCP), and most have been constructed (road improvements, parking lot expansion, campground upgrades, and new sanitary and power facilities).

The purpose of the Exit Glacier Area Plan and EIS is to provide comprehensive management direction over the next 15 to 20 years that allows for visitor use while protecting resources in the Exit Glacier area. The DCP called for further study before implementing a proposed alternative transportation system (shuttle bus) and visitor use limits. The NPS Visitor Experience and Resource Protection framework will be used to identify desired future conditions and to develop a reasonable range of alternatives. The EIS also will analyze the no-action and agency preferred alternatives. This planning process will result in an amendment to the 1984 General Management Plan for Kenai Fjords National Park to add management prescriptions for the Exit Glacier area and will replace the 1996 DCP.

A preliminary list of issues the alternatives need to consider include:

• How can important natural and cultural resources best be protected while providing for continued visitor use of the Exit Glacier area by present and future generations?

• What level and type of use—in all seasons—is appropriate and consistent with the purposes for which Kenai Fjords National Park was established?

• What specific management strategies, including facilities, alternative transportation systems, and new regulations, are necessary to meet the goals of the plan?

Except for the no-action alternative, these and other issues will be addressed by development of management zones and allocation of activities in those zones. The use of zones will allow NPS to provide a range of user experiences and resource conditions consistent with the park's mandate. The alternatives also will include future management actions to be taken when social and resource standards are exceeded, as determined by area monitoring.

The NPS requests input from federal and state agencies, local government, private organizations, recreational users, and the public. Further information on this planning process will be available through public open houses and meetings, the distribution of a newsletter, and development of a Web page. Specific dates, times, and locations of scoping meetings will be announced in area newspapers, via radio announcements, and on community bulletin boards. The park's Web page will contain updates on the public involvement schedule: http://www.nps.gov/kefj/. Comments may be submitted via the Internet, using the email address kefj_eg_plan@nps.gov. Scoping meetings will be held in Anchorage and Seward, Alaska, in summer and fall of 2001.

Preliminary alternatives will be developed based on the issues identified and comments gathered. The public will be provided the opportunity to comment on the preliminary alternatives before they are incorporated in the draft EIS. The draft EIS is projected to be available for a 60-day public review in fall 2002. The anticipated release date of the final EIS is early in 2003.

Comments on the scope of this project should be received by March 31, 2002. Comments may be hand-delivered to Kenai Fjords National Park at 1212 4th Avenue, Seward, Alaska, e-mailed, or mailed to the Interdisciplinary Team Leader at the address provided below.

FOR FURTHER INFORMATION CONTACT: Jeff Tratman, Interdisciplinary Team Leader; Kenai Fjords National Park; P.O. Box 1727; Seward, AK 99664. E-mail kefj_eg_plan@nps.gov. Telephone (907) 224-3175, Fax (907) 224-2144.

SUPPLEMENTARY INFORMATION: Comments, including names and home addresses of respondents, will be made available for public review during regular business hours. Individual respondents may request that we withhold their home address from the public record, which will be honored to the extent allowable by law. There also may be circumstances in which we would withhold from the public record a respondent's identity, as allowable by law. If you wish us to withhold your name and/or address, you must state this prominently at the beginning of your comment. However, anonymous comments will not be considered. All submissions from organizations or businesses, and from individuals identifying themselves as representatives or officials of organizations or businesses, will be made available for public inspection in their entirety.

Paul R. Anderson,
Acting Regional Director.

[FR Doc. 01-18698 Filed 7-26-01; 8:45 am]

BILLING CODE 4310-70-P